ENVIRONMENTAL PROTECTION AGENCY

[EPA-HQ-OPP-2007-1060; FRL-8155-4]

Pesticide Inert Ingredients: Support Status of Revoked Tolerance Exemptions

AGENCY: Environmental Protection Agency (EPA).

ACTION: Notice.

SUMMARY: EPA has received notice from various companies of their intention to submit data in order to support the reinstatement of a number of inert ingredient tolerance exemptions that were revoked because of insufficient data, revocations effective as of August 9, 2008, in a final rule published in the Federal Register on August 9, 2006 (71 FR 45415). This notice identifies the tolerance exemptions that the companies indicate they will be supporting with the submission of data. The information in this notice is for informational purposes only and does not affect the previous revocations. Based on the review of the submitted data, EPA will conduct rulemaking to establish new tolerance exemptions where appropriate.

FOR FURTHER INFORMATION CONTACT: Kerry Leifer, Registration Division (7505P), Office of Pesticide Programs, Environmental Protection Agency, 1200 Pennsylvania Ave., NW., Washington, DC 20460-0001; telephone number: (703) 308-8811; fax number: (703) 605-0781; e-mail address: leifer.kerry@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II. If you have any questions regarding the applicability of this action to a particular entity, consult the person listed under FOR FURTHER INFORMATION CONTACT.

B. How Can I Get Copies of this Document and Other Related Information?

1. Docket. EPA has established a docket for this action under docket identification (ID) number EPA-HQ-OPP-2007-1060. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. Background on the Revocation of Pesticide Inert Ingredient Tolerance Exemptions on August 9, 2006

In a final rule published in the Federal Register on August 9, 2006 (71 FR 45415) (FRL-8084-1), EPA revoked inert ingredient tolerance exemptions because insufficient data were available to the Agency to make the safety determination required by FFDCA section 408(c)(2). In making the FFDCA reassessment safety determination, EPA considered the validity, completeness, and reliability of the data that are available to the Agency [FFDCA section 408 (b)(2)(D)] and the available information concerning the special susceptibility of infants and children (including developmental effects from in utero exposure) [FFDCA section 408 (b)(2)(C)]. Data gaps existed for these inert ingredients in areas that were critical to reassessment. Without these data, the assessment of possible effects to infants and children could not be made. EPA concluded it had insufficient data to make the safety finding of FFDCA section 408(c)(2) and revoked the inert ingredient tolerance exemptions identified in the final rule under 40 CFR 180.910, 180.920, 180.930, and 180.940, with the revocations effective two years after the date of publication. The tolerance exemptions will expire on August 9, 2008.

B. What Information Is Provided In This Notice?

EPA has received communications from pesticide registrants and inert ingredient manufacturers expressing interest in supporting certain inert ingredient tolerance exemptions that were revoked in the final rule of August 9, 2008. EPA developed voluntary guidance describing how interested parties could support these revoked tolerance exemptions, including consultations with the Agency and how they can demonstrate support, including identifying test materials and providing evidence that a laboratory has been hired to conduct the study. The voluntary guidance document, entitled “Guidance for Supporting the Inert Ingredients Subject to the Revocation Notice of August 9, 2006”, is available on EPA's website at http://www.epa.gov/opprd001/inerts/.

In the interest of keeping the stakeholders informed about activities that may impact these revoked tolerance exemptions, EPA is publishing in this notice the support status of each of the revoked tolerance exemptions by indicating whether the Agency has received a demonstration of support (such as described in the guidance document discussed above).

Be advised that the information provided in this notice does not guarantee or in any way bind the Agency to reinstate tolerance exemptions, establish new tolerance exemptions, or grant extensions to expiring tolerance exemptions. EPA cannot guarantee that the parties will, in fact, submit any data at all. Additionally, it is possible that the data submitted to support a tolerance exemption may not support a safety finding under FFDCA section 408(c)(2). In these cases, the tolerance exemption will not be reinstated nor will a new one be established. The information being published here is designed simply to inform interested stakeholders about the tolerance exemptions for which the Agency has received a demonstration of support. EPA recommends that you contact the chemical suppliers to confirm their plans for supporting a tolerance exemption.

It is important to note that several parties have indicated that they may want to support only a portion of a tolerance exemption expression that includes a range of chemicals. At this time, EPA does not know exactly what range of chemicals within a tolerance exemption will eventually be supported by data. Until the data are submitted and reviewed, EPA will not know what portion, if any, of a current tolerance exemption can be reinstated. If the results of the data permit, a supported exemption may be reinstated in whole, or a new tolerance exemption may be established if only a part of a revoked exemption is supported by the data. Again, contact the chemical suppliers to confirm their plans for supporting a tolerance exemption. Unit III. of this document provides the tolerance exemptions the parties assert they are supporting.

III. Support Status of Revoked Tolerance Exemptions

The following provides the support status of each of the inert ingredient tolerance exemptions revoked because of insufficient data. The tolerance exemptions are presented below in the order they appeared in the final rule published in the Federal Register on August 9, 2006 (71 FR 45415). The support status has been added to the end of each tolerance exemption expression. For example, under § 180.910, the entry for the tolerance exemption expression “y. Sodium mono-, di-, and tributyl naphthalenesulfonates” ends with “(Demonstration of Support)”, which means that the EPA has received communication from a party that they intend to submit data supporting reinstatment of all or part of the tolerance exemption and the parties have taken measures to demonstrate their support to the Agency such as those described in the voluntary guidance document (discussed above). On the other hand, under § 180.910, the entry for the tolerance exemption expression “v. Sodium lauryl glyceryl ether sulfonate” ends with “(No Demonstration of Support)”, which means the EPA has not received communication from a party concerning support of the exemption and/or has not received a sufficient demonstration of support. Tolerance exemptions that are not supported by the submission of adequate data will expire on August 9, 2008. If EPA determines that specific tolerance exemptions scheduled to expire are supported by adequate data, the Agency intends to conduct rulemaking to reinstate the exemptions or create new tolerance exemptions for the affected commodities. EPA recommends that you contact the chemical suppliers to confirm their plans for supporting a tolerance exemption.

Also, the final rule published in the Federal Register on August 9, 2006 (71 FR 45415) revoked two inert ingredient tolerance exemptions that were inadvertently removed from the CFR some time ago but are considered to be an active tolerance exemptions under §§ 180.910 and 180.930. The support status of these tolerance exemptions is found at the end of §§ 180.910 and 180.930.

In addition to the revocation of tolerance exemptions for insufficient data, an administrative revocation was completed for seven redundant and incorrect tolerance exemptions under 40 CFR part 180 in the final rule published in the Federal Register on August 9, 2006 (71 FR 45415). These tolerance exemptions were revoked on the date of publication of the final rule. These seven tolerance exemptions appear in the list below so as to maintain the original order of the list of tolerance exemptions as given in the final rule and facilitate the reader's ability to determine the support status of each of the tolerance exemptions revoked for insufficient data. The status of the seven exemptions is indicated as “(Administrative Revocation is Complete)”.

Under § 180.910:

a. α-Alkyl (C9-C18-ω-hydroxypoly(oxyethylene) with poly(oxyethylene) content of 2-30 moles. (Demonstration of Support)

b. α-(p-Alkylphenyl)-ω-hydroxypoly(oxyethylene) produced by the condensation of 1 mole of alkylphenol (alkyl is a mixture of propylene tetramer and pentamer isomers and averages C13) with 6 moles of ethylene oxide. (No Demonstration of Support)

c. α-Alkyl (C6-C14)-ω-hydroxypoly(oxypropylene) block copolymer with polyoxyethylene; polyoxypropylene content is 1-3 moles; polyoxyethylene content is 4-12 moles; average molecular weight (in amu) is approximately 635. (Demonstration of Support)

d. α-(p-tert-Butylphenyl)-ω-hydroxypoly (oxyethylene) mixture of dihydrogen phosphate and monohydrogen phosphate esters and the corresponding ammonium calcium, magnesium, monoethanolamine, potassium, sodium, and zinc salts of the phosphate esters; the poly(oxyethylene) content averages 4-12 moles. (No Demonstration of Support)

e. α-(o,p-Dinonylphenyl)-ω-hydroxypoly (oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles. (No Demonstration of Support)

f. α-(o,p-Dinonylphenyl)-ω-hydroxypoly (oxyethylene) produced by condensation of 1 mole of dinonylphenol (nonyl group is a propylene trimer isomer) with an average of 4-14 or 140-160 moles of ethylene oxide. (No Demonstration of Support)

g. Dodecylbenzenesulfonic acid, amine salts. (No Demonstration of Support)

h. α-(p-Dodecylphenyl)-ω-hydroxypoly (oxyethylene) produced by the condensation of 1 mole of dodecylphenol (dodecyl group is a propylene tetramer isomer) with an average of 4-14 or 30-70 moles of ethylene oxide; if a blend of products is used, the average number of moles of ethylene oxide reacted to produce any product that is a component of the blend shall be in the range of 4-14 or 30-70. (No Demonstration of Support)

i. Ethylene oxide adducts of 2,4,7,9-tetramethyl-5-decynediol, the ethylene oxide content averages 3.5, 10, or 30 moles. (Demonstration of Support)

j. α-Lauryl-ω-hydroxypoly(oxyethylene), average molecular weight (in amu) of 600. (Demonstration of Support)

k. α-Lauryl-ω-hydroxypoly(oxyethylene) sulfate, sodium salt; the poly(oxyethylene) content is 3-4 moles. (Demonstration of Support)

l. Manganous oxide. (No Demonstration of Support)

m. α-(p-Nonylphenyl)-ω-hydroxypoly(oxyethylene) mixture of dihydrogen phosphate and monohydrogen phosphate esters and the corresponding ammonium, calcium, magnesium, monoethanolamine, potassium, sodium, and zinc salts of the phosphate esters; the nonyl group is a propylene trimer isomer and the poly (oxyethylene) content averages 4-14 moles or 30 moles. (Demonstration of Support)

n. α-(p-Nonylphenyl)-ω-hydroxypoly(oxyethylene) sulfate, ammonium, calcium, magnesium, potassium, sodium, and zinc salts; the nonyl group is a propylene trimer isomer and the poly(oxyethylene) content averages 4 moles. (Demonstration of Support)

o. Polyglyceryl phthalate ester of coconut oil fatty acids. (No Demonstration of Support)

p. Poly(methylene-p-tert-butylphenoxy)- poly(oxyethylene) ethanol; the poly(oxyethylene) content averages 4-12 moles. (No Demonstration of Support)

q. Poly(methylene-p-nonylphenoxy)poly(oxyethylene) ethanol; the poly(oxyethylene) content averages 4-12 moles. (No Demonstration of Support)

r. Secondary alkyl (C11-C15) poly(oxyethylene) acetate, sodium salt; the ethylene oxide content averages 5 moles. (No Demonstration of Support)

s. Sodium diisobutylnaphthalenesulfonate. (Demonstration of Support)

t. Sodium dodecylphenoxybenzenedisulfonate. (Demonstration of Support)

u. Sodium isopropylisohexylnaphthalenesulfonate. (No Demonstration of Support)

v. Sodium lauryl glyceryl ether sulfonate. (No Demonstration of Support)

w. Sodium monoalkyl and dialkyl (C8-C16) phenoxybenzenedisulfonate mixtures containing not less than 70% of the monoalkylated product. (Demonstration of Support)

x. Sodium mono- and dimethylnaphthalenesulfonates, molecular weight (in amu) 245-260. (Demonstration of Support)

y. Sodium mono-, di-, and tributyl naphthalenesulfonates. (Demonstration of Support)

z. Sodium mono-, di-, and triisopropyl naphthalenesulfonate. (Demonstration of Support)

aa. Sodium N-oleoyl-N-methyltaurine. (Demonstration of Support)

bb. Sodium sulfite. (Demonstration of Support)

cc. α-[p-(1,1,3,3-Tetramethylbutyl)phenyl]-ω-hydroxypoly(oxyethylene) produced by the condensation of 1 mole of p-(1,1,3,3-tetramethylbutyl)phenol with a range of 1-14 or 30-70 moles of ethylene oxide: if a blend of products is used, the average range number of moles of ethylene oxide reacted to produce any product that is a component of the blend shall be in the range of 1-14 or 30-70. (Demonstration of Support)

dd. α-[p-(1,1,3,3-Tetramethylbutyl) phenyl]-ω-hydroxypoly(oxyethylene) produced by the condensation of 1 mole of p-(1,1,3,3-tetramethylbutyl) phenol with an average of 4-14 or 30-70 moles of ethylene oxide; if a blend of products is used, the average number of moles of ethylene oxide reacted to produce any product that is a component of the blend shall be in the range of 4-14 or 30-70. (Administrative Revocation is Complete).

ee. Tridecylpoly(oxyethylene) acetate, sodium salt; where the ethylene oxide content averages 6-7 moles. (No Demonstration of Support)

In the final rule published in the Federal Register on August 9, 2006 (71 FR 45415), the Agency revoked one other inert ingredient tolerance exemption that was inadvertently removed from the CFR some time ago but is considered to be an active tolerance exemption under § 180.910:

“α-Alkyl(C12-C15)-ω- hydroxypoly(oxyethylene) sulfate, ammonium, calcium, magnesium, potassium, sodium, and zinc salts; the poly(oxyethylene) content averages 3 moles.” (Demonstration of Support)

Under § 180.920:

a. α-Alkyl (C12-C18)-ω-hydroxypoly(oxyethylene) copolymers with poly(oxypropylene); polyoxyethylene content averages 3-12 moles and polyoxypropylene content 2-9 moles. (Demonstration of Support)

b. α-Alkyl (C10-C16)-ω-hydroxypoly(oxyethylene) mixture of dihydrogen phosphate and monohydrogen phosphate esters and the corresponding ammonium, calcium, magnesium, monoethanolamine, potassium, sodium, and zinc salts of the phosphate esters; the poly(oxyethylene) content averages 3-20 moles. (Demonstration of Support)

c. α-Alkyl (C12-C15)-ω-hydroxypoly(oxyethylene) sulfosuccinate, isopropylamine and N-hydroxyethyl isopropylamine salts of; the poly(oxyethylene) content averages 3-12 moles. (No Demonstration of Support)

d. α-Alkyl(C10-12)-ω-hydroxpoly(oxyethylene) poly(oxypropylene) copolymer; poly(oxyethylene) content is 11-15 moles; poly(oxyproplene) content is 1-3 moles. (No Demonstration of Support)

e. α-Alkyl(C12-C18)-ω-hydroxypoly (oxyethylene/oxypropylene) hetero polymer in which the oxyethylene content averages 13-17 moles and the oxypropylene content averages 2-6 moles. (Demonstration of Support)

f. α-Alkyl (C10-C16)-ω-hydroxypoly(oxyethylene)poly(oxypropylene) mixture of di- and monohydrogen phosphate esters and the corresponding ammonium, calcium, magnesium, monoethanolamine, potassium, sodium, and zinc salts of the phosphate esters; the combined poly(oxyethylene) poly(oxypropylene) content averages 3-20 moles. (Demonstration of Support)

g. α-Alkyl (C12-C18)-ω-hydroxypoly(oxyethylene/oxypropylene) hetero polymer in which the oxyethylene content is 8-12 moles and the oxypropylene content is 3-7 moles. (Demonstration of Support)

h. α-Alkyl (C12-C15)-ω-hydroxypoly(oxyethylene/oxypropylene) hetero polymer in which the oxyethylene content is 8-13 moles and the oxypropylene content is 7-30 moles. (Demonstration of Support)

i. α-Alkyl (C21-C71)-ω-hydroxypoly (oxyethylene) in which the poly(oxyethylene) content is 2 to 91 moles and molecular weight range from 390 to 5,000. (Demonstration of Support)

j. n-Alkyl(C8-C18)amine acetate. (Demonstration of Support)

k. Amine salts of alkyl (C8-C24) benzenesulfonic acid (butylamine, dimethylaminopropylamine, mono- and diisopropylamine, mono- , di- , and triethanolamine). (Demonstration of Support)

l. N-(Aminoethyl) ethanolamine salt of dodecylbenzenesulfonic acid. (No Demonstration of Support)

m. N,N-Bis[α-ethyl-ω-hydroxypoly(oxyethylene) alkylamine; the poly(oxyethylene) content averages 3 moles; the alkyl groups (C14-C18) are derived from tallow, or from soybean or cottonseed oil acids. (Demonstration of Support)

n. N,N-Bis(2-hydroxyethyl)alkylamine, where the alkyl groups (C8-C18) are derived from coconut, cottonseed, soya, or tallow acids. (Demonstration of Support)

o. N,N-Bis 2-(ω-hydroxypolyoxyethylene) ethyl) alkylamine; the reaction product of 1 mole N,N-bis(2-hydroxyethyl)alkylamine and 3-60 moles of ethylene oxide, where the alkyl group (C8-C18) is derived from coconut, cottonseed, soya, or tallow acids. (Demonstration of Support)

p. N,N-Bis-2-(ω-hydroxypolyoxyethylene/polyoxypropylene) ethyl alkylamine; the reaction product of 1 mole of N,N-bis(2-hydroxyethyl alkylamine) and 3-60 moles of ethylene oxide and propylene oxide, where the alkyl group (C8-C18) is derived from coconut, cottonseed, soya, or tallow acids. (Demonstration of Support)

q. Butoxytriethylene glycol phosphate. (No Demonstration of Support)

r. Cyclohexanol. (No Demonstration of Support)

s. α-(Di-sec-butyl)phenylpoly(oxypropylene) block polymer with poly(oxyethylene); the poly(oxypropylene) content averages 4 moles, the poly(oxyethylene) content averages 5 to 12 moles, the molecular. (Demonstration of Support)

t. Disodium 4-isodecyl sulfosuccinate. (No Demonstration of Support)

u. Dodecylphenol. (No Demonstration of Support)

v. α-Dodecylphenol-ω-hydroxypoly(oxyethylene/oxypropylene) hetero polymer where ethylene oxide content is 11-13 moles and oxypropylene content is 14-16 moles, molecular weight (in amu) averages 600 to 965. (No Demonstration of Support)

w. Isopropylbenzenesulfonic acid and its ammonium, calcium, magnesium, potassium, sodium, and zinc salts. (No Demonstration of Support)

x. (3-Lauramidopropyl) trimethylammonium methyl sulfate. (No Demonstration of Support)

y. Linoleic diethanolamide (CAS Reg. No. 56863-02-6). (Demonstration of Support)

z. Methyl bis(2-hydroxyethyl)alkyl ammonium chloride, where the carbon chain (C8-C18) is derived from coconut, cottonseed, soya, or tallow acids. (Demonstration of Support)

aa. α,α′-[Methylenebis]-4-(1,1,3,3-tetramethylbutyl)-o-phenylene bis[ω-hydroxypoly(oxyethylene)] having 6-7.5 moles of ethylene oxide per hydroxyl group. (No Demonstration of Support)

bb. Methylnaphthalenesulfonic acid—formaldehyde condensate, sodium salt. (Demonstration of Support)

cc. Methyl poly(oxyethylene) alkyl ammonium chloride, where the poly(oxyethylene) content is 3-15 moles and the alkyl group (C8-C18) is derived from coconut, cottonseed, soya, or tallow acids. (Demonstration of Support)

dd. Methyl violet 2B. (No Demonstration of Support)

ee. Morpholine salt of dodecylbenzenesulfonic acid. (No Demonstration of Support)

ff. Naphthalenesulfonic acid-formaldehyde condensate, ammonium and sodium salts. (Demonstration of Support)

gg. Partial sodium salt of N-lauryl-α-iminodipropionic acid. (Demonstration of Support)

hh. Poly(methylene-p-nonylphenoxy)poly(oxypropylene) propanol; the poly(oxy-propylene) content averages 4-12 moles. (No Demonstration of Support)

ii. Primary n-alkylamines, where the alkyl group (C8-C18) is derived from coconut, cottonseed, soya, or tallow acids. (Demonstration of Support)

jj. Sodium butyl naphthalenesulfonate. (Administrative Revocation is Complete).

kk. Sodium 1,4-dicyclohexyl sulfosuccinate. (No Demonstration of Support)

ll. Sodium 1,4-dihexyl sulfosuccinate. (Demonstration of Support)

mm. Sodium 1,4-diisobutyl sulfosuccinate. (Demonstration of Support)

nn. Sodium 1,4-dipentyl sulfosuccinate. (Demonstration of Support)

oo. Sodium 1,4-ditridecyl sulfosuccinate. (No Demonstration of Support)

pp. Sodium mono- and dimethyl naphthalenesulfonate; molecular weight (in amu) 245-260. (Administrative Revocation is Complete).

qq. Sulfosuccinic acid ester with N-(2,-hydroxy-propyl) oleamide, ammonia and isopropylamine salts of. (No Demonstration of Support)

rr. Tall oil diesters with polypropylene glycol (CAS Reg. No. 68648-12-4). (No Demonstration of Support)

ss. N,N,N′,N′′-Tetrakis-(2-hydroxypropyl) ethylenediamine. (Demonstration of Support)

tt. α-[p-(1,1,3,3-Tetramethylbutyl)phenyl]-ω-hydroxypoly(oxyethylene) mixture of dihydrogen phosphate and monohydrogen phosphate esters and the corresponding sodium salts of the phosphate esters; the poly(oxyethylene) content averages 6 to 10 moles. (No Demonstration of Support)

Under § 180.930:

a. α-Alkyl (C9-C18)-ω-hydroxy poly(oxyethylene): the poly(oxyethylene) content averages 2-20 moles. (No Demonstration of Support)

b. α-Alkyl (C12-C15)-ω-hydroxypoly(oxyethylene/oxypropylene) hetero polymer in which the oxyethylene content is 8-13 moles and the oxypropylene content is 7-30 moles. (Demonstration of Support)

c. α-Alkyl (C8-C10) hydroxypoly(oxypropylene) block polymer with polyoxyethylene; polyoxypropylene content averages 3 moles and polyoxyethylene content averages 5-12 moles. (Demonstration of Support)

d. α-Alkyl (C6-C14)-ω-hydroxypoly(oxypropylene) block copolymer with polyoxyethylene; polyoxypropylene content is 1-3 moles; polyoxyethylene content is 7-9 moles; average molecular weight (in amu) approximately 635. (No Demonstration of Support)

e. α-(p-Alkylphenyl)-ω-hydroxypoly (oxyethylene) produced by the condensation of 1 mole of alkylphenol (alkyl is a mixture of propylene tetramer and pentamer isomers and averages C13) with 6 moles of ethylene oxide. (No Demonstration of Support)

f. Amine salts of alkyl (C8-C24) benzenesulfonic acid (butylamine; dimethylamino propylamine; mono- and diisopropyl- amine; and mono- , di-, and triethanolamine). (Demonstration of Support)

g. α-(p-tert- Butylphenyl)-ω-hydroxypoly(oxyethylene) mixture of dihydrogen phosphate and monohydrogen phosphate esters and the corresponding ammonium, calcium, magnesium, monoethanolamine, potassium, sodium, and zinc salts of the phosphate esters; the poly(oxyethylene) content averages 4-12 moles. (No Demonstration of Support)

h. α-(o,p-Dinonylphenyl)-ω-hydroxypoly (oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles. (No Demonstration of Support)

i. α-(o,p-Dinonylphenyl)-ω-hydroxypoly (oxyethylene), produced by the condensation of 1 mole of dinonylphenol (nonyl group is a propylene trimer isomer) with an average of 4-14 moles of ethylene oxide. (No Demonstration of Support)

j. Dodecylbenzenesulfonic acid, amine salts. (No Demonstration of Support)

k. α-(p-Dodecylphenyl)-ω-hydroxypoly (oxyethylene) produced by the condensation of 1 mole of dodecylphenol (dodecyl group is a propylene tetramer isomer) with an average of 4-14 or 30-70 moles of ethylene oxide; if a blend of products is used, the average number of moles of ethylene oxide reacted to produce any product that is a component of the blend shall be in the range of 4-14 or 30-70 moles. (No Demonstration of Support)

l. Ethylene oxide adducts of 2,4,7,9-tetramethyl-5-decynediol, the ethylene oxide content averages 3.5, 10, or 30 moles. (Demonstration of Support)

m. Ethyl vinyl acetate (CAS Reg. No. 24937-78-8). (Administrative Revocation is Complete).

n. α-Lauryl-ω-hydroxypoly(oxyethylene), average molecular weight (in amu) of 600. (No Demonstration of Support)

o. α-Lauryl-ω-hydroxypoly(oxyethylene), sulfate, sodium salt; the poly(oxyethylene) content is 3-4 moles. (No Demonstration of Support)

p. Manganous oxide. (No Demonstration of Support)

q. α-(Methylene (4-(1,1,3,3-tetramethylbutyl)-o-phenylene) bis-ω-hydroxypoly(oxyethylene) having 6-7.5 moles of ethylene oxide per hydroxyl group. (Administrative Revocation is Complete).

r. Mono-, di-, and trimethylnaphthalenesulfonic acids-formaldehyde condensates, sodium salts. (No Demonstration of Support)

s. Naphthalenesulfonic acid and its sodium salt. (No Demonstration of Support)

t. α-(p-Nonylphenyl)-ω-hydroxypoly(oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles. (Demonstration of Support)

u. α-(p-Nonylphenyl)-ω-hydroxypoly(oxyethylene) sulfate, and its ammonium, calcium, magnesium, potassium, sodium, and zinc salts; the nonyl group is a propylene trimer isomer and the poly(oxyethylene) content averages 4 moles. (Demonstration of Support)

v. α-(p-Nonylphenyl)-ω-hydroxypoly(oxyethylene) sulfate, and its ammonium, calcium, magnesium, monoethanolamine, potassium, sodium, and zinc salts; the nonyl group is a propylene trimer isomer and the poly(oxyethylene) content averages 4-14 or 30-90 moles of ethyiene oxide. (No Demonstration of Support)

w. Polyglyceryl phthalate esters of coconut oil fatty acids. (Demonstration of Support)

x. Poly(methylene-p-tert-butylphenoxy)poly(oxyethylene) ethanol; the poly(oxyethylene) content averages 4-12 moles. (No Demonstration of Support)

y. Poly(methylene-p-nonylphenoxy)poly(oxyethylene) ethanol; the poly(oxyethylene) content averages 4-12 moles. (No Demonstration of Support)

z. Poly(methylene-p-nonylphenoxy)poly(oxypropylene) propanol; the poly(oxypropylene) content averages 4-12 moles. (No Demonstration of Support)

aa. Secondary alkyl (C11-C15) poly(oxyethylene) acetate, sodium salt; the ethylene oxide content averages 5 moles. (No Demonstration of Support)

bb. Sodium butylnaphthalenesulfonate. (Administrative Revocation is Complete).

cc. Sodium diisobutylnaphthalenesulfonate. (No Demonstration of Support)

dd. Sodium isopropylisohexylnaphthalenesulfonate. (No Demonstration of Support)

ee. Sodium isopropylnaphthalenesulfonate. (Demonstration of Support)

ff. Sodium monoalkyl and diakyl (C8-C13) phenoxybenzenedisulfonate mixtures containing not less than 70% of the monoalkylated product. (No Demonstration of Support)

gg. Sodium mono- and dimethylnaphthalenesulfonate, molecular weight (in amu) 245-260. (Demonstration of Support)

hh. Sodium mono-, di-, and tributylnaphthalenesulfonates. (Demonstration of Support)

ii. Sodium N-oleoyl-N-methyl taurine. (Demonstration of Support)

jj. α-[p-(1,1,3,3-Tetramethylbutyl)phenyl]-ω-hydroxypoly(oxyethylene) produced by the condensation of 1 mole of p (1,1,3,3-tetramethylbutyl)phenol with a range of 1-14 or 30-70 moles of ethylene oxide: if a blend of products is used, the average range number of moles of ethylene oxide reacted to produce any product that is a component of the blend shall be in the range of 1-14 or 30-70. (No Demonstration of Support)

kk. α-[p-(1,1,3,3-Tetramethylbutyl)phenyl]-ω-hydroxypoly(oxyethylene) produced by the condensation of 1 mole of p-(1,1,-3,3-tetramethylbutyl) phenol with an average of 4-14 or 30-70 moles of ethylene oxide; if a blend of products is used, the average number of moles of ethylene oxide reacted to produce any product that is a component of the blend shall be in the range of 4-14 or 30-70. (Administrative Revocation is Complete).

ll. Tridecylpoly(oxyethylene) acetate sodiums salt; where the ethylene oxide content averages 6-7 moles. (No Demonstration of Support)

In the final rule published in the Federal Register on August 9, 2006 (71 FR 45415), the Agency revoked one other inert ingredient tolerance exemption that was inadvertently removed from the CFR some time ago but is considered to be an active tolerance exemption under § 180.930:

“α-Alkyl (C12-C15)-ω-hydroxypoly(oxyethylene) sulfate and its ammonium, calcium, magnesium, potassium, sodium, and zinc salts; the poly(oxyethylene) content averages 3 moles.” (Demonstration of Support)

Under § 180.940:

Under paragraph (a):

i. α-Alkyl(C10-C14)-ω- hydroxypoly (oxyethylene) poly(oxypropylene) average molecular weight (in amu), 768 to 837. (No Demonstration of Support)

ii. α-Alkyl(C12-C18)-ω hydroxypoly (oxyethylene) poly(oxypropylene) average molecular weight (in amu), 950 to 1120. (No Demonstration of Support)

Under paragraph (b):

i. α-Lauroyl-ω-hydroxypoly (oxyethylene) with an average of 8-9 moles ethylene oxide, average molecular weight (in amu), 400. (No Demonstration of Support)

ii. Oxirane, methyl-, polymer with oxirane, ether with (1,2-ethanediyldinitrilo)tetrakis [propanol] (4:1). (No Demonstration of Support)

Under paragraph (c):

i. α-Alkyl(C10-C14)-ω-hydroxypoly (oxyethylene) poly (oxypropylene) average molecular weight (in amu), 768 to 837. (No Demonstration of Support)

ii. α-Alkyl(C11-C15)-ω-hydroxypoly (oxyethylene) with ethylene oxide content 9 to 13 moles. (Demonstration of Support)

iii. α-Alkyl(C12-C15)-ω-hydroxypoly (oxyethylene) polyoxypropylene, average molecular weight (in amu), 965. (No Demonstration of Support)

iv. α-Alkyl(C12-C18)-ω-hydroxypoly (oxyethylene) poly(oxypropylene) average molecular weight (in amu), 950 to 1120. (No Demonstration of Support)

v. α-Lauroyl-ω-hydroxypoly (oxyethylene) with an average of 8-9 moles ethylene oxide, average molecular weight (in amu), 400. (No Demonstration of Support)

vi. Naphthalene sulfonic acid, sodium salt. (No Demonstration of Support)

vii. Naphthalene sulfonic acid sodium salt, and its methyl, dimethyl and trimethyl derivatives. (Demonstration of Support)

viii. Naphthalene sulfonic acid sodium salt, and its methyl, dimethyl and trimethyl derivatives alkylated at 3% by weight with C6-C9 linear olefins. (Demonstration of Support)

ix. Oxirane, methyl-, polymer with oxirane, ether with (1,2-ethanediyldinitrilo)tetrakis [propanol] (4:1). (No Demonstration of Support)

List of Subjects

Environmental protection.

Dated: October 24, 2007.
Lois Rossi,
Director, Registration Division, Office of Pesticide Programs.

[FR Doc. E7-21594 Filed 11-1-07; 8:45 am]

BILLING CODE 6560-50-S